DEPARTMENT OF HEALTH AND HUMAN SERVICES

National Institutes of Health

National Institute of Diabetes and Digestive and Kidney Diseases; Notice of Meeting

Pursuant to section 1009 of the Federal Advisory Committee Act, as amended, notice is hereby given of a meeting of the National Diabetes and Digestive and Kidney Diseases Advisory Council.

The meeting will be open to the public as indicated below, with attendance limited to space available. Individuals who plan to attend and need special assistance, such as sign language interpretation or other reasonable accommodations, should notify the Contact Person listed below in advance of the meeting.

The meeting will be closed to the public in accordance with the provisions set forth in sections 552b(c)(4) and 552b(c)(6), title 5 U.S.C., as amended. The grant applications and the discussions could disclose confidential trade secrets or commercial property such as patentable material, and personal information concerning individuals associated with the grant applications, the disclosure of which would constitute a clearly unwarranted invasion of personal privacy.

Name of Committee: National Diabetes and Digestive and Kidney Diseases Advisory Council.

Date: April 24, 2025.

Open: April 24, 2025, 4:00 p.m. to 4:30 p.m.

Agenda: Council Business.

Break: 4:30 p.m.-4:35 p.m.

Closed: April 24, 2025, 4:35 p.m.-5:05 p.m.

Agenda: Division of Diabetes, Endocrinology, & Metabolic Diseases Subcommittee to review and evaluate grant applications.

Address: National Institutes of Health, National Institute of Diabetes and Digestive and Kidney Diseases, 6707 Democracy Blvd., Room 7329, Bethesda, MD 20892 (Virtual Meeting).

Closed: April 24, 2025, 4:35 p.m.-5:05 p.m.

Agenda: Division of Digestive Diseases & Nutrition Subcommittee to review and evaluate grant applications.

Address: National Institutes of Health, National Institute of Diabetes and Digestive and Kidney Diseases, 6707 Democracy Blvd., Room 7329, Bethesda, MD 20892 (Virtual Meeting).

Closed: April 24, 2025, 4:35 p.m.-5:05 p.m.

Agenda: Division of Kidney, Urologic, & Hematologic Diseases Subcommittee to review and evaluate grant applications.

Address: National Institutes of Health, National Institute of Diabetes and Digestive and Kidney Diseases, 6707 Democracy Blvd., Room 7329, Bethesda, MD 20892 (Virtual Meeting).

Break: 5:05 p.m.-5:10 p.m.

Closed: April 24, 2025, 5:10 p.m.-5:30 p.m.

Agenda: Review and Evaluation of Grant Applications.

Address: National Institutes of Health, National Institute of Diabetes and Digestive and Kidney Diseases, 6707 Democracy Blvd., Room 7329, Bethesda, MD 20892 (Virtual Meeting).

Contact Person: Karl F. Malik, Ph.D., Director, Division of Extramural Activities, National Institute of Diabetes and Digestive and Kidney Diseases, 6707 Democracy Blvd., Room 7329, MSC 5452, Bethesda, MD 20892, (301) 594-4757, malikk@niddk.nih.gov.

Information is also available on the Institute's/Center's home page: https://www.niddk.nih.gov/about-niddk/advisory-coordinating-committees/national-diabetes-digestive-kidney-diseases-advisory-council where additional information for the meeting will be posted when available.

(Catalogue of Federal Domestic Assistance Program Nos. 93.847, Diabetes, Endocrinology and Metabolic Research; 93.848, Digestive Diseases and Nutrition Research; 93.849, Kidney Diseases, Urology and Hematology Research, National Institutes of Health, HHS)

Dated: March 18, 2025.
David W. Freeman,
Supervisory Program Analyst, Office of Federal Advisory Committee Policy.

[FR Doc. 2025-04911 Filed 3-21-25; 8:45 am]

BILLING CODE 4140-01-P